DEPARTMENT OF COMMERCE

National Oceanic and Atmospheric Administration

RIN: 0648-XE93

Pacific Fishery Management Council; Public Meeting

AGENCY: National Marine Fisheries Service (NMFS), National Oceanic and Atmospheric Administration (NOAA), Commerce.

ACTION: Notice of a public meeting.

SUMMARY: The Pacific Fishery Management Council's (Council) Groundfish Management Team (GMT) will hold a working meeting, which is open to the public.

DATES: The GMT meeting will be held Monday, January 28, 2008 from 1 p.m. until business for the day is completed. The GMT meeting will reconvene Tuesday, January 29 through Friday, February 1, from 8:30 a.m. until business for each day is completed.

ADDRESSES: The GMT meeting will be held at the Pacific Fishery Management Council office, Large Conference Room, 7700 NE Ambassador Place, Suite 101, Portland, OR 97220-1384.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the GMT working meeting is to (1) develop models and recommendations for analyzing harvest specifications and management measures for 2009-2010 West Coast groundfish fisheries; (2) develop a new bycatch model for analyzing potential impacts in 2008 Pacific whiting fisheries; (3) provide guidance on analyzing intersector allocation alternatives for groundfish species and complexes; and (4) develop recommendations for analyzing a range of alternatives for a contemplated limited entry system for open access groundfish fisheries. The GMT may also address other assignments relating to groundfish management. No management actions will be decided by the GMT. The GMT's role will be development of the environmental analyses for 2009-10 groundfish harvest specifications and management measures and recommendations for consideration by the Council at its March meeting in Sacramento, CA.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at (503) 820-2280 at least 5 days prior to the meeting date.

Dated: January 8, 2008.
Tracey L. Thompson,
Acting Director, Office of Sustainable Fisheries, National Marine Fisheries Service

[FR Doc. E8-336 Filed 1-10-08; 8:45 am]

BILLING CODE 3510-22-S